DEPARTMENT OF JUSTICE

[OMB Number 1123-0011]

Agency Information Collection Activities; Proposed eCollection eComments Requested; Update With Changes, of a Previously Approved Collection Which Expires November, 2018: Department of Justice Equitable Sharing Agreement and Certification

AGENCY: Money Laundering and Asset Recovery Section, Department of Justice.

ACTION: 30-Day notice.

SUMMARY: The Department of Justice (DOJ), Criminal Division, Money Laundering and Asset Recovery Section, will be submitting the following information collection request to the Office of Management and Budget (OMB) for review and approval in accordance with the Paperwork Reduction Act of 1995. The proposed information collection is published to obtain comments from the public and affected agencies.

DATES: Comments are encouraged and will be accepted for 30 days until November 2, 2018.

FOR FURTHER INFORMATION CONTACT: If you have additional comments especially on the estimated public burden or associated response time, suggestions, or need a copy of the proposed information collection instrument with instructions or additional information, please contact Matthew Colon, Senior Attorney Advisor, Money Laundering and Asset Recovery Section, 1400 New York Avenue NW, Washington, DC 20005 (phone: 202-514-1263). Written comments and/or suggestions can also be directed to the Office of Management and Budget, Office of Information and Regulatory Affairs, Attention Department of Justice Desk Officer, Washington, DC 20503 or sent to OIRA_submissions@omb.eop.gov.

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Update with changes, of the Department of Justice Equitable Sharing Agreement and Certification, a previously approved collection for which approval will expire on November 30, 2018.

2. The Title of the Form/Collection: Department of Justice Equitable Sharing Agreement and Certification.

3. The Agency Form Number, if any, and the Applicable Component of the Department Sponsoring the Collection: There is not an agency form number. The applicable component within the Department of Justice is the Money Laundering and Asset Recovery Section (“MLARS”), in the Criminal Division.

4. Affected Public Who Will Be Asked or Required to Respond, as Well as a Brief Abstract: The Attorney General is required by statute to “assure that any property transferred to a State or local law enforcement agency . . . will serve to encourage further cooperation between the recipient State or local agency and Federal law enforcement agencies.” 21 U.S.C. 881(e)(3). MLARS ensures such cooperation by requiring that all such “equitably shared” funds be used only for law enforcement purposes and not be distributed to other governmental agencies by the recipient law enforcement agencies. By requiring that law enforcement agencies that participate in the Equitable Sharing Program (Program) file an Equitable Sharing Agreement and Certification (ESAC), MLARS can readily ensure compliance with its statutory obligations.

The ESAC requires information regarding the receipt and expenditure of Program funds from the participating agency. Accordingly, it seeks information that is exclusively in the hands of the participating agency.

5. An Estimate of the Total Number of Respondents and the Amount of Time Estimated for an Average Respondent to Respond: An estimated 6,900 state and local law enforcement agencies electronically file the ESAC annually with MLARS. It is estimated that it takes 30 minutes per year to enter the information. All of the approximately 6,500 agencies must fully complete the form each year to maintain compliance and continue participation in the Department of Justice Equitable Sharing Program.

6. An Estimate of the Total Public Burden (in hours) Associated With the Collection: The estimated public burden associated with this collection is 3,250 hours. It is estimated that respondents will take 30 minutes to complete the form. (6,500 participants × 30 minutes = 3,250 hours).

If additional information is required contact: Melody Braswell, Department Clearance Officer, United States Department of Justice, Justice Management Division, Policy and Planning Staff, Two Constitution Square, 145 N Street NE, 3E.405B, Washington, DC 20530.

Dated: September 28, 2018.
Melody Braswell,
Department Clearance Officer for PRA, U.S. Department of Justice.

[FR Doc. 2018-21528 Filed 10-2-18; 8:45 am]

BILLING CODE 4410-14-P